DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Profiles of Fish Processing Plants in Alaska (title shortened from the 60-day notice).

OMB Control Number: None.

Form Number(s): NA.

Type of Request: Regular submission (request for review of a new information collection).

Number of Respondents: 186.

Average Hours per Response: Initial and follow-up telephone calls, 6 minutes; surveys, 30 minutes.

Burden Hours: 95.

Needs and Uses: This request is for review of a new information collection.

Workers come from many places inside and outside Alaska to work seasonally in its fish processing facilities. As a result, the population of an Alaska community with a fish processing plant can increase significantly during peak processing seasons. However, very limited information is available in a consolidated location or format about these fish processing facilities. The National Marine Fisheries Service's Alaska Fisheries Science Center proposes to obtain such basic information, as an accurate number of individuals employed at each processing facility during the months of operation, the peak number of workers for processing various species by season, the ethnicity of processing workers, types of lodging and other accommodations and activities available for processing workers, whether or not the company provides meals for the processing workforce in a company galley, the interactions between seasonal processing workers and permanent residents of the community, and the history of the fish processing facility in the community. This type of information is important when attempting to forecast the possible social impacts of fishing regulations on communities which have an onshore fish processing facility.

This project would produce “processor profiles”, short narrative descriptions of all the onshore fish processing plants in the state of Alaska that will augment and update existing community profiles.

Affected Public: Business or other for-profit organizations.

Frequency: One time.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: May 3, 2011.
Gwellnar Banks,
Management Analyst, Office of the Chief Information Officer.

[FR Doc. 2011-11169 Filed 5-6-11; 8:45 am]

BILLING CODE 3510-22-P